DEPARTMENT OF THE INTERIOR

National Park Service

[NPS-WASO-NAGPRA-NPS0037318; PPWOCRADN0-PCU00RP14.R50000]

Notice of Inventory Completion: U.S. Department of the Interior, National Park Service, Fort Vancouver National Historic Site, Vancouver, WA

AGENCY: National Park Service, Interior.

ACTION: Notice.

SUMMARY: In accordance with the Native American Graves Protection and Repatriation Act (NAGPRA), the U.S. Department of the Interior, National Park Service, Fort Vancouver National Historic Site (FOVA) has completed an inventory of human remains and an associated funerary objects and has determined that there is a cultural affiliation between the human remains and associated funerary objects and Indian Tribes or Native Hawaiian organizations in this notice. The human remains and associated funerary objects were removed from Clatsop County, OR.

DATES: Repatriation of the human remains and associated funerary objects in this notice may occur on or after February 29, 2024.

ADDRESSES: Tracy Fortmann, Superintendent, Fort Vancouver National Historic Site, 800 Hathaway Road, Building 722, Vancouver, WA 98661, telephone (360) 816-6205, email Tracy Fortmann@nps.gov.

SUPPLEMENTARY INFORMATION: This notice is published as part of the National Park Service's administrative responsibilities under NAGPRA. The determinations in this notice are the sole responsibility of the Superintendent, FOVA. Additional information on the determinations in this notice, including the results of consultation, can be found in the inventory or related records held by FOVA.

Description

Human remains representing, at minimum, one individual were removed from Clatsop County, OR, in 1925 by a private individual. They were donated to the National Park Service at Fort Clatsop National Memorial in 1962 (redesignated Lewis and Clark National Historical Park in 2004). In 1987, the human remains and associated funerary objects were transferred to Fort Vancouver National Historic Site. The seven associated funerary objects are one bag of dentalium shells, one copper kettle, one bag of glass and shell beads, one ceramic plate, and three brass bracelets.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, geographical information, and historical information.

Determinations

Pursuant to NAGPRA and its implementing regulations, and after consultation with the appropriate Indian Tribes and Native Hawaiian organizations, FOVA has determined that:

• The human remains described in this notice represent the physical remains of one individual of Native American ancestry.

• The seven objects described in this notice are reasonably believed to have been placed with or near individual human remains at the time of death or later as part of the death rite or ceremony.

• There is a relationship of shared group identity that can be reasonably traced between the human remains and associated funerary objects described in this notice and the Confederated Tribes of Siletz Indians of Oregon and the Confederated Tribes of the Grand Ronde Community of Oregon.

Requests for Repatriation

Written requests for repatriation of the human remains and associated funerary objects in this notice must be sent to the Responsible Official identified in ADDRESSES. Requests for repatriation may be submitted by:

1. Any one or more of the Indian Tribes identified in this notice and, if joined to a request from one or more of the Indian Tribes, the Chinook Indian Nation, and the Clatsop-Nehalem Confederated Tribe.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 29, 2024. If competing requests for repatriation are received, FOVA must determine the most appropriate requestor prior to repatriation. Requests for joint repatriation of the human remains and associated funerary objects are considered a single request and not competing requests. FOVA is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: January 24, 2024.
Melanie O'Brien,
Manager, National NAGPRA Program.

[FR Doc. 2024-01804 Filed 1-29-24; 8:45 am]

BILLING CODE 4312-52-P